DEPARTMENT OF COMMERCE

National Telecommunications and Information Administration

Public Meeting To Discuss Results of Ultrawideband Systems Testing

AGENCY: National Telecommunications and Information Administration, Department of Commerce.

ACTION: Notice of public meeting.

SUMMARY: The National Telecommunications and Information Administration (NTIA) will host a public meeting to discuss the results of tests conducted by the agency to develop practical methods for characterizing the very narrow pulses of ultrawideband (UWB) systems and to assess the compatibility between UWB devices and selected federal radio communications or sensing systems.

DATES: The meeting will be held from 2 p.m.-4 p.m., Wednesday, January 31, 2001.

ADDRESSES: The meeting will be held at the U.S. Department of Commerce, Room 1605, 1401 Constitution Avenue, NW., Washington, DC. The meeting will be open to the public. For updated information on this meeting, please see NTIA's homepage at <http://www.ntia.doc.gov>.

FOR FURTHER INFORMATION CONTACT: Paul Roosa, Office of Spectrum Management, NTIA, telephone: (202) 482-1559; or electronic mail: <proosa@ntia.doc.gov>. Media inquiries should be directed to the Office of Public Affairs, NTIA, at (202) 482-7002.

SUPPLEMENTARY INFORMATION: Recent advances in microcircuit and other technologies have allowed the use of very narrow pulses (typically less than a nanosecond) with very wide bandwidths in new applications in both radar and communications devices. These “ultrawideband” or “UWB” devices are capable of locating nearby objects and can use processing technology to “see through walls” and communicate in multipath propagation environments, making them useful in many commercial and government applications. The manufacturers of these devices are seeking authorization from NTIA and the Federal Communications Commission (FCC) to operate UWB systems on an unlicensed basis. The current regulations for unlicensed devices, located in Part 15 of Title 47 of the Code of Federal Regulations, do not address such UWB devices. The FCC has initiated a rulemaking proceeding to examine whether UWB devices can be accommodated compatibly with existing systems operating in the electronic environment.¹ NTIA has conducted a series of measurements and analyses for characterizing and assessing the impact of UWB devices on selected Federal equipment operation between 400 kHz and 6 GHz. The results of these tests were released by NTIA on January 18, 2001 in the form of two reports: “The Temporal and Spectral Characteristics of Ultrawideband Signals,” NTIA Report 01-383, which provides practical methods for characterizing UWB systems; and “Assessment of Compatability between Ultrawideband Devices and Selected Federal System,” NTIA Special Publication 01-43, which provides information needed to measure the potential of UWB systems to interfere with existing radio communications or sensing systems.² At the same time, NTIA filed both reports with the FCC to be included in the public record of its rulemaking proceeding.

¹ See Revision of Part 15 of the Commission's Rules regarding Ultra-Wideband Transmission Systems, ET Docket No. 98-153, Notice of Proposed Rulemaking, 65 Fed. Reg. 37332 (June 14, 2000).

² Both of these reports are available on NTIA's website at <www.ntia.doc.gov>.

Public Participation: The meeting will be open to the public and is physically accessible to people with disabilities. To facilitate entry to the Department of Commerce building, please have a photo identification available and/or a U.S. Government building pass, if applicable. Any member of the public wishing to attend and requiring special services, such as sign language interpretation or other ancillary aids, should contact Paul Roosa at least three (3) days prior to the meeting via the contact information provided above.

Dated: January 19, 2001.
Kathy D. Smith,
Chief Counsel.

[FR Doc. 01-2113 Filed 1-23-01; 8:45 am]

BILLING CODE 3510-60-P